DEPARTMENT OF TRANSPORTATION

Federal Highway Administration

Draft Environmental Impact Statement: Marshall and St. Joseph Counties in Indiana

AGENCY: Federal Highway Administration (FHWA), DOT.

ACTION: Notice of intent.

SUMMARY: The FHWA is issuing this notice to advise the public that an Environmental Impact Statement (EIS) will be prepared for proposed improvements to US 31 in Marshall and St. Joseph Counties in Indiana.

FOR FURTHER INFORMATION CONTACT: Mr. Robert Dirks, Environmental Specialist, Federal Highway Administration, 575 North Pennsylvania Street, Room 254, Indianapolis, Indiana 46204. Telephone: (317) 226-7492, Fax: (317) 226-7341, e-mail: robert.dirks@fhwa.dot.gov.

SUPPLEMENTARY INFORMATION: The FWHA in cooperation with the Indiana Department of Transportation (INDOT) will prepare an EIS to improve the US 31 corridor through Marshall and St. Joseph Counties in Indiana. The proposed corridor is between US 30 near Plymouth and US 20 in South Bend, a distance of about 20 miles.

This project is intended to evaluate various transportation alternatives that would reduce traffic congestion and improve safety on US 31 with minimal impacts to the environment. The project would also provide greater accessibility to north-central Indiana and would accommodate the transportation needs of the growing population and employment of northern Indiana. Along this 20 mile section of US 31, many of the intersections are currently experiencing traffic congestion and travel delay.

FHWA and INDOT will determine the purpose and need for the project, evaluate alternatives that satisfy the needs, describe the affected environment, discuss the environmental consequences regarding the alternatives, while providing agency coordination and public involvement. The project will follow Indiana's Streamlined EIS Procedures, which can be found on their website at www.fhwa.dot.gov/indiv/procedur.htm.

Early Coordination letters will be sent to appropriate federal, state, and local agencies describing the proposed action and inviting the agencies to be Participating Agencies in the study. Once the draft purpose and need has been developed and preliminary alternatives identified, the agencies and the public will have an opportunity to review and comment on this information. Agencies and the public will also have an opportunity to comment when the preliminary alternatives have been screened to those carried forward for more detailed environmental evaluation in the Draft Environmental Impact Statement (DEIS).

Upon completion of the DEIS, the DEIS will be available for public review and hearings will also be held. Public notice will be given as to the time and place of the meetings and hearings. Another interagency meeting will be held to offer the opportunity to comment on the preferred alternative and mitigation measures that are recommended.

To ensure that the full range of issues related to this proposed action is addressed and any significant impacts are identified, comments and suggestions are invited from all interested parties. Comments or questions concerning this proposed action and this EIS should be directed to the FHWA contact provided above.

(Catalog of Federal Domestic Assistance Program No. 20.205, Highway Planning and Construction. The regulations implementing Executive Order 12372 regarding intergovernmental consultation on Federal programs and activities apply to the program).

Authority: 23 USC 315; 49 CFR 1.48.

Issued on: February 22, 2002.
Robert Dirks,
Environmental Specialist, FHWA, Indianapolis, Indiana.

[FR Doc. 02-7227 Filed 3-25-02; 8:45 am]

BILLING CODE 4910-22-M